DEPARTMENT OF COMMERCE

National Oceanic and Atmospheric Administration

50 CFR Part 648

[Docket No. 000407096-0096-01; 040300C]

Fisheries of the Northeastern United States; Northeast Multispecies Fishery; Framework Adjustment 33 to the Northeast Multispecies Fishery Management Plan; Correction

AGENCY: National Marine Fisheries Service (NMFS), National Oceanic and Atmospheric Administration (NOAA), Commerce.

ACTION: Final rule; correction.

SUMMARY: On April 24, 2000, NMFS published a final rule implementing Framework Adjustment 33 to the Northeast Multispecies Fishery Management Plan. The final rule implementing Framework Adjustment 33 contained errors. The effective date of the increase in the haddock landing limit specified in § 648.86(a)(1)(i) and (ii), and the paragraph numbering of the new paragraph (e) in § 648.89, Recreational and charter/party restrictions, are corrected in this document. In addition, the amendatory instruction for the revision to § 648.23 indicated that paragraph (b)(4) would be revised rather than only the introductory text to paragraph (b)(4). Also, three metric conversions (pounds to kilograms) for haddock contained in the preamble are incorrect. This document corrects these errors.

DATES: Sections 648.23(b)(4) introductory text, and 648.86(a)(1)(i) and (ii) are effective May 1, 2000. Section 648.89(e) contains information collection requirements and is not effective until approved by the Office of Management and Budget (OMB). When OMB approval is received, NMFS will announce the effective date of § 648.89(e) in the Federal Register.

FOR FURTHER INFORMATION CONTACT: Richard A. Pearson, Fishery Policy Analyst, 978-281-9279.

SUPPLEMENTARY INFORMATION: In the final rule published April 24, 2000, at 65 FR 21658, the preamble indicated that the haddock daily landing limit during the May 1-September 30 period was increased to 3,000 lb/DAS (1,360.8 kg/DAS), or part of a DAS, with a maximum possession limit of 30,000 lb (13,608 kg) per trip. The preamble also indicated that the daily landing limit will increase on October 1, 2000, to 5,000 lb/DAS (2,268 kg/DAS), with a maximum possession limit of 50,000 lb (22,680 kg) per trip. However, § 648.86(a)(1)(i) of the final rule inadvertently indicated that the 3,000 lb/DAS (1,360.8 kg/DAS) landing limit would be in effect through August 31, rather than September 30, and that the increase in the landing limit reflected in § 648.86(a)(1)(ii) would occur on September 1, 2000, rather than on October 1, 2000. This document corrects the effective date of the haddock increase contained in § 648.86(a)(1)(i) and (ii) to be consistent with the preamble language. In addition, in the paragraph entitled “Haddock Measures” and in the haddock discussion contained in the Classification section three of the metric conversions for haddock are incorrect. This document corrects those errors.

In § 648.23, amendatory instruction 4 indicated that paragraph (b)(4) was revised. However, the intent was to revise only the introductory text of § 648.23(b)(4). This document corrects the amendatory instruction.

Also, we added a new paragraph (e) to § 648.89. However, the subparagraphs of new paragraph (e)(3) were incorrectly designated. This document corrects that error.

1. On page 21661, in the first column under “Haddock Measures”, in the first sentence, in the eighth line of this paragraph, remove “period to 3,000 lb/DAS (1,360.7 kg/” and add, in its place, “period to 3,000 lb/DAS (1,360.8 kg/”.

2. On page 21663, in the third column, first full paragraph, in the fourth sentence, in the 24th through 26th lines, remove “limit to 3,000 lbs/DAS (2,268 kg/DAS), with a maximum possession limit of 30,000 lb (13,680 kg) per trip.” and add, in its place, “limit to 3,000 lb/DAS (1,360.8 kg/DAS), with a maximum possession limit of 30,000 lb (13,608 kg) per trip.”

§ 648.23 [Corrected]

3. On page 21665, in column one, amendatory instruction no. 4 is corrected to read as follows:

“4. In § 648.23, paragraph (b)(4) introductory text is revised to read as follows:”

§ 648.86 [Corrected]

4. On page 21666, in § 648.86(a)(1)(i), in the first sentence, remove “August 31,” and add, in its place, “September 30,”.

5. On page 21666, in § 648.86(a)(1)(ii), in the first sentence, remove “September 1” and add, in its place, “October 1”.

§ 648.89 [Corrected]

6. On page 21667, in § 648.89(e)(3), in the second and third columns, the paragraphs designated as (A), (B), and (C), and (D) are correctly designated as (i), (ii), (iii), and (iv).

Dated: May 8, 2000.
Penelope D. Dalton,
Assistant Administrator for Fisheries, National Marine Fisheries Service.

[FR Doc. 00-12030 Filed 5-11-00; 8:45 am]

BILLING CODE 3510-22-F